DEPARTMENT OF EDUCATION

Notice of Proposed Collection Requests; Comment Request; Program for International Student Assessment (PISA 2015) Recruitment and Field Test

AGENCY: Department of Education.

ACTION: Correction notice.

SUMMARY: On 4/16/2013, a 60-day notice was published in the Federal Register (volume 78 FR, page 22530) for the Program for International Student Assessments (PISA 2015) Recruitment and Field Test, 1850-0755. Since that time, the PISA has been amended. It reflects a change in the field test design and burden. In addition to science, reading, mathematics, and collaborative problem solving, the field test will include an assessment of students' financial literacy. From the sample of students that take the science, mathematics, reading, and collaborative problem solving assessments, 585 students (15 per school) will be subsampled to return for a second assessment session to take financial literacy. Students taking financial literacy will take an additional 5 minutes of background questions. This change in the design increases the total field test student burden estimate by 42 hours. Consistent with the science, reading, and mathematics domains, the field test includes a mode effect study to examine the impact of transitioning from a paper-based to a computer-based financial literacy assessment. Schools and student response rates and other information from the field test will be evaluated to determine whether the financial literacy assessment should be administered in the main study. The revised documents have been posted to regulations.gov under Docket Number ED-2013-ICCD-0053. The 60-day period ends June 17, 2013.

The Director, Information Collection Clearance Division, Privacy, Information and Records Management Services, Office of Management, hereby issues a correction notice as required by the Paperwork Reduction Act of 1995.

Dated: May 22, 2013.
Stephanie Valentine,
Acting Director, Information Collection Clearance Division, Privacy, Information and Records Management Services, Office of Management.

[FR Doc. 2013-12644 Filed 5-28-13; 8:45 am]

BILLING CODE 4000-01-P